FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 962. Interested parties may submit comments on an agreement to the Secretary, Federal Maritime Commission, Washington, DC 20573, within 10 days of the date this notice appears in the Federal Register.

Agreement No.: 203-011686.

Title: Cooperative Service Contract Agreement.

Parties: Australian-New Zealand Direct Line Lykes Lines Limited, LLC.

Synopsis: The proposed agreement authorizes the parties to negotiate, enter into, and participate in joint service contracts with shippers in the trades between the United States and ports and points worldwide. The parties request expedited review.

By Order of the Federal Maritime Commission.
Bryant L. VanBrakle,
Secretary.

[FR Doc. 00-1396 Filed 1-19-00; 8:45 am]

BILLIING CODE 6730-01-P